DEPARTMENT OF TRANSPORTATION

Federal Aviation Administration

[Summary Notice No. PE-2004-50]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains the dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: John Linsenmeyer, Office of Rulemaking (ARM-1), Federal Aviation Administration, 800 Independence Avenue, SW., Washington, DC 20591. Tel. (202) 267-5174.

This notice is published pursuant to 14 CFR 11.85 and 11.91.

Issued in Washington, D.C., on June 24, 2004.
Anthony F. Fazio,
Director, Office of Rulemaking.

Dispositions of Petitions

Docket No.: FAA-2003-15527.

Petitioner: Airbus.

Section of 14 CFR Affected: 14 CFR 25.812(b)(1)(i), 25.853, 25.855, 25.857, 25.858 and 25.1439(a).

Description of Relief Sought/Disposition: Airbus seeks an extension of Exemption No. 8084 for 3 months. Exemption No. 8084 allows Airbus to install and operate lower deck mobile crew rests (LD-MCR) on Airbus Model A330 airplanes for 12 months from the date the exemption was issued.

Grant of Exemption, 06/23/2004, Exemption No. 8084A

Docket No.: FAA-2004-17212.

Petitioner: Israel Aircraft Industries, Ltd.

Section of 14 CFR Affected: 14 CFR 25.813(b)(3), 25.857(e) and 25.1447(c)(1).

Description of Relief Sought/Disposition: To allow carriage of two non-crewmembers (commonly referred to as supernumeraries) on Boeing Model 737 airplanes converted from passenger to freighter configuration.

Grant of Exemption, 06/03/2004, Exemption No. 8335

BILLING CODE 4910-13-P

[FR Doc. 04-15039 Filed 7-1-04; 8:45 am]

BILLING CODE 4910-13-C